DEPARTMENT OF TRANSPORTATION

National Highway Traffic Safety Administration

[Docket No. NHTSA 03-15651]

Federal Motor Vehicle Safety Standards; Lamps, Reflective Devices, and Associated Equipment

AGENCY: National Highway Traffic Safety Administration (NHTSA), Department of Transportation (DOT).

ACTION: Notice of draft interpretations; request for comments.

SUMMARY: This notice sets forth two draft interpretations concerning how our standard on lamps, reflective devices, and associated equipment applies to replacement equipment. We will issue final interpretations after the comment period closes, and after considering any comments submitted.

DATES: You should submit comments early enough to ensure that Docket Management receives them not later than September 2, 2003.

ADDRESSES: You may submit comments (identified by the docket number set forth above) by any of the following methods:

• Web site: http://dms.dot.gov. Follow the instructions for submitting comments on the DOT electronic docket site. Please note, if you are submitting petitions electronically as a PDF (Adobe) file, we ask that the documents submitted be scanned using Optical Character Recognition (OCR) process, thus allowing the agency to search and copy certain portions of your submissions.¹

¹ Optical character recognition (OCR) is the process of converting an image of text, such as a scanned paper document or electronic fax file, into computer-editable text.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

Instructions: All submissions must include the agency name and docket number. For detailed instructions on submitting comments, see the Submission of Comments heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Taylor Vinson, Office of Chief Counsel, National Highway Traffic Safety Administration, 400 Seventh Street, SW., Washington, DC, 20590, Telephone: (202) 366-5263, Fax: (202) 366-3820.

SUPPLEMENTARY INFORMATION: One of the functions performed by NHTSA's Chief Counsel is to issue interpretations of the statutes administered by the agency and regulations issued by the agency under those statutes. See 49 CFR 501.8(d)(5). These interpretations are typically issued in the form of a letter responding to a request for interpretation from a manufacturer or other interested person. Our interpretations have always been placed in public viewing files and, more recently, have been available to the public on the web.

In reviewing how we handle interpretations, we believe that, in certain cases, particularly those involving important novel issues and potentially broad impacts, it would be beneficial to publish draft interpretations in the Federal Register to provide an opportunity for public comment before making these interpretations final. This will help ensure that we have considered all relevant issues prior to publishing a final interpretation.

We will provide a 45-day comment period. All timely comments will be considered before we publish a final interpretation.

Our interpretations include all relevant information necessary to understand the issues raised by the interpretation. Consequently, we generally will not publish the incoming request for interpretation. However, we will place the incoming request for interpretation in the docket, as background information.

In this notice, we are setting forth two draft interpretations concerning how our standard on lamps, reflective devices, and associated equipment applies to replacement equipment. They respond to two requests for interpretation submitted by Calcoast-ITL, a testing company.

Draft Interpretation No. 1

This replies to your letter requesting an interpretation of Federal Motor Vehicle Safety Standard No. 108, Lamps, reflective devices, and other associated equipment. You asked whether replacement lamps are required to have all the functions of original lamps. You also asked whether replacement lamps for the rear of a vehicle may have the reflex reflectors in a location that is inboard from that in the original lamps. We respond to your questions below.

You asked your questions in connection with replacement lamps for the rear of certain Honda Civics. The Honda Civics, as originally manufactured, include two lamps on each side of the rear of the vehicle, one lamp on the vehicle body and an adjacent one (inboard from the other lamp) on the decklid (back of the trunk). The lamps on the vehicle body include a reflex reflector.

You stated that you have received two sets of replacement lamps for testing that would replace all four of these original lamps. In both cases, there is no reflex reflector on the replacement lamps for the vehicle body. However, a reflex reflector is included on the adjacent replacement lamp for the decklid.

As discussed below, these lamps would not comply with Standard No. 108.

By way of background, Standard No. 108 specifies requirements for original and replacement lamps, reflective devices, and associated equipment. Paragraph S1 of Standard No. 108. The standard applies to passenger cars, multipurpose passenger vehicles, trucks, buses, trailers, and motorcycles. S3(a). The vehicle manufacturer is required to certify that the vehicle, when new, meets, among other things, Standard No. 108's requirements with respect to lamps, reflective devices, and associated equipment.

Standard No. 108 also applies to lamps, reflective devices, and associated equipment for replacement of like equipment on vehicles to which this standard applies. S3(c). Thus, the manufacturer of a replacement lamp (or other replacement equipment covered by the standard) is required to certify that the equipment meets the standard's requirements.

S5.8.1 of the standard provides that, with certain exceptions not relevant here, “each lamp, reflective device, or item of equipment manufactured to replace any lamp, reflective device, or item of associated equipment on any vehicle to which this standard applies, shall be designed to conform to this standard.” Under S5.8.1, whenever a manufacturer designs a lamp to replace a lamp on a vehicle to which the standard applies, the manufacturer must design that lamp to ensure that the vehicle will continue to comply with Standard No. 108 when the replacement lamp is installed.

Further, the specific requirements of Standard No. 108 that apply to an item of replacement equipment are determined by reference to the original equipment being replaced and the vehicle for which it was designed. As we have stated before, the replacement item must conform to the standard in the same manner as the original equipment for which the vehicle manufacturer certified compliance. See our February 4, 2002, letter to Mr. Daniel Watt. See also our March 13, 2003, letter to Mr. Galen Chen.

As to the sets of replacement lamps you received, the lamps that would replace the original lamps on the vehicle body would not conform to Standard No. 108 because they do not include all of the functions of the original lamps; i.e., they do not include the reflex reflector. It is immaterial that the manufacturer of the replacement equipment would provide a reflex reflector in another lamp. Under S5.8.1 of the standard, “each lamp” manufactured to replace any lamp on any vehicle to which the standard applies must be designed to conform to the standard. As you noted in your letter, someone might install the replacement outboard (vehicle body) lamps only, thus causing the vehicle to lose the reflector function entirely.

You also raised another question about the designs: as installed on a vehicle, the reflex reflectors in the replacement lamp systems are located further inboard than the reflectors in the original equipment lamp systems. Standard No. 108 requires rear reflex reflectors to be “as far apart as practicable.” The vehicle was certified with the reflex reflectors in a specific location, and replacement lamps which have the effect of moving the reflex reflectors closer together would clearly not be “as far apart as practicable,” and therefore would not conform to Standard No. 108.

Of course, replacement equipment must also be certified as having been designed to conform to all of Standard No. 108's requirements that applied to the original equipment; e.g., photometric performance, minimum effective projected luminous lens area, lens material weatherability performance, etc.

Draft Interpretation No. 2

This replies to your letter requesting an interpretation of Federal Motor Vehicle Safety Standard No. 108, Lamps, reflective devices, and other associated equipment. You asked whether light source modifications are permissible for aftermarket lamps.

You stated that manufacturers have submitted replacement lamps to Calcoast-ITL for testing that are intended to replace original equipment lamps. According to your letter, the lamps are “both front and rear combination lamps.” As discussed below, replacement lamps must comply with Standard No. 108 using the same light sources as the original equipment.

According to your letter, the lamps fall into two categories, and you have asked questions with regard to each category. The categories and questions are as follows:

1. Replacement Lamp Uses OEM Wiring Harness & Sockets

(a) May a lamp manufacturer design a replacement lamp to use a different wattage bulb, such as switching from an 1157 to a 2057?

(b) May a lamp manufacturer design a replacement lamp to use a different color bulb? Some manufacturers are switching from a clear bulb behind a red or amber rear turn signal lens to an amber bulb behind a clear lens.

2. Replacement Lamp Uses Modified Wiring Harness and Sockets Supplied With Lamp

(a) Some manufacturers of replacement lamps are completely changing the bulbs used including wattage, color and base type by including a replacement wiring harness and sockets. Is this permitted?

(b) Some manufacturers of replacement lamps change the source type from incandescent to sealed LED. Is this permitted?

The answer to all of these questions is no.

By way of background, Standard No. 108 specifies requirements for original and replacement lamps, reflective devices, and associated equipment. S1. It applies to passenger cars, multipurpose passenger vehicles, trucks, buses, trailers, and motorcycles. S3(a). The vehicle manufacturer is required to certify that the vehicle, when new, meets, among other things, Standard No. 108's requirements with respect to lamps, reflective devices, and associated equipment.

Standard No. 108 also applies to lamps, reflective devices, and associated equipment for replacement of like equipment on vehicles to which this standard applies. S3(c). Thus, the manufacturer of a replacement lamp (or other replacement equipment covered by the standard) is required to certify that the equipment meets the standard's requirements.

S5.8.1 of the standard provides that, with certain exceptions not relevant here, “each lamp, reflective device, or item of equipment manufactured to replace any lamp, reflective device, or item of associated equipment on any vehicle to which this standard applies, shall be designed to conform to this standard.” Under S5.8.1, whenever a manufacturer designs a lamp to replace a lamp on a vehicle to which the standard applies, the manufacturer must design that lamp to ensure that the vehicle will continue to comply with Standard No. 108 when the replacement lamp is installed.

Further, the specific requirements of Standard No. 108 that apply to an item of replacement equipment are determined by reference to the original equipment being replaced and the vehicle for which it was designed. As we have stated before, the replacement item must conform to the standard in the same manner as the original equipment for which the vehicle manufacturer certified compliance. See our February 4, 2002 letter to Mr. Daniel Watt. See also our March 13, 2003 letter to Mr. Galen Chen.

Thus, replacement lamps must conform to the standard in the same manner as the original equipment lamp on the vehicle as certified by the vehicle manufacturer. Each vehicle is certified to Standard No. 108 using a particular light source for a particular lamp. The lamp's ability to meet the standard's requirements with that light source is an inherent part of the certification. Therefore, a lamp manufactured to replace the lamp must meet Standard No. 108's requirements using that light source, in order to be designed to conform to the standard. We would use the same light source in testing a replacement lamp for compliance with Standard No. 108 as was used by the vehicle manufacturer for the original lamp in certifying the vehicle's compliance with the standard.

Further, we note that the lighting systems and overall electrical systems of vehicles are designed with specific light sources in mind, both to ensure proper beam patterns, levels of brightness and electrical performance, and to avoid overloads and risk of fire. In the owner's manual, vehicle manufacturers advise owners what replacement bulbs to use. If a replacement lamp were designed to use a different light source from that used in the original equipment lamp, it might not work properly, or at all, with the original equipment bulb or with the replacement bulbs specified by the vehicle manufacturer. Moreover, use of a different light source might also adversely affect the performance of the vehicle's overall lighting and electrical systems, and possibly cause overloads and risk of fire.

Submission of Comments

How do I prepare and submit comments?

Your comments must be written and in English. To ensure that your comments are correctly filed in the Docket, please include the docket number of this document in your comments.

Please submit two copies of your comments, including the attachments, to Docket Management at the address given above under ADDRESSES. Comments may also be submitted to the docket electronically by logging onto the Dockets Management System Web site at http://dms.dot.gov. Click on “Help & Information” or “Help/Info” to obtain instructions for filing the document electronically.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the agency consider late comments?

We will consider all comments that Docket Management receives before the close of business on the comment closing date indicated above under DATES. To the extent possible, we will also consider comments that Docket Management receives after that date.

How can I read the comments submitted by other people?

You may read the comments received by Docket Management at the address given above under ADDRESSES. The hours of the Docket are indicated above in the same location.

You may also see the comments on the Internet. To read the comments on the Internet, take the following steps:

(1) Go to the Docket Management System (DMS) Web page of the Department of Transportation (http://dms.dot.gov).

(2) On that page, click on “search.”

(3) On the next page (http://dms.dot.gov/search/), type in the five-digit docket number shown at the beginning of this document. Example: If the docket number were “NHTSA-2002-12345,” you would type “12345.” After typing the docket number, click on “search.”

(4) On the next page, which contains docket summary information for the docket you selected, click on the desired comments. You may download the comments. However, since the comments are imaged documents, instead of word processing documents, the downloaded comments are not word searchable.

Please note that even after the comment closing date, we will continue to file relevant information in the Docket as it becomes available. Further, some people may submit late comments. Accordingly, we recommend that you periodically check the Docket for new material.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 U.S.C. 30111; 49 CFR 501.8(d)(5)

Issued on July 10, 2003.
Jacqueline Glassman,
Chief Counsel.

[FR Doc. 03-18110 Filed 7-16-03; 8:45 am]

BILLING CODE 4910-59-P